DEPARTMENT OF COMMERCE

International Trade Administration

Overseas Trade Missions: 2002 Trade Missions; Services Matchmaker Trade Delegation (Mexico, Chile and Venezuela et al.)

AGENCY: International Trade Administration, Department of Commerce.

ACTION: Notice.

SUMMARY: The Department of Commerce invites U.S. companies to participate in the below listed overseas trade missions. For a more complete description of each trade mission, obtain a copy of the mission statement from the Project Officer indicated for each mission below. Recruitment and selection of private sector participants for these missions will be conducted according to the Statement of Policy Governing Department of Commerce Overseas Trade Missions dated March 3, 1997.

Services Matchmaker Trade Delegation

Mexico City, Mexico; Santiago, Chile; Caracas, Venezuela

April 8-16, 2002

Recruitment closes on March 1, 2002.

For further information contact: Ms. Yvonne Jackson, U.S. Department of Commerce. Telephone 202-482-2675; or e-Mail: Yvonne.Jackson@mail.doc.gov

Medical Devices Trade Mission to Central Europe

Budapest, Hungary; Prague, Czech Republic; Warsaw, Poland

May 12-21, 2002

Recruitment closes on March 29, 2002.

For further information contact: Ms. Valerie Barth, U.S. Department of Commerce. Telephone 202-482-3360; or e-Mail: Valerie_Barth@ita.doc.gov

ACE-Infrastructure Matchmaker Trade Delegation

Madrid, Spain; Casablanca and Tangiers, Morocco

June 3-7, 2002

Recruitment closes on April 12, 2002.

For further information contact: Mr. Sam Dhir, U.S. Department of Commerce. Telephone 202-482-4756; or e-Mail: Sam.Dhir@mail.doc.gov

Electric Power Mission to Vietnam and Thailand

Hanoi and Ho Chi Minh City, Vietnam; Bangkok, Thailand

September 30-October 4, 2002

Recruitment closes on June 30, 2002.

For further information contact: Ms. Rachel Halpern, U.S. Department of Commerce. Telephone 202-482-4423; or e-Mail: Rache_Halpern@ita.doc.gov

FOR FURTHER INFORMATION CONTACT: Mr. Thomas Nisbet, U.S. Department of Commerce. Telephone 202-482-5657, or e-Mail Tom_Nisbet@ita.doc.gov.

Dated: October 26, 2001.
Thomas H. Nisbet,
Director, Promotion Planning and Support Division, Office of Export Promotion Coordination.

[FR Doc. 01-27846 Filed 11-5-01; 8:45 am]

BILLING CODE 3510-DR-P